BROADCASTING BOARD OF GOVERNORS

Performance Review Board Members

AGENCY: Broadcasting Board of Governors.

ACTION: Notice of membership.

SUMMARY: This Notice is issued to announce the membership of the Broadcasting Board of Governors (BBG) Performance Review Board.

FOR FURTHER INFORMATION CONTACT: Ms. Linda C. Beard (Executive Secretary), Office of Personnel, Broadcasting Board of Governors, 330 Independence Avenue SW., Washington, DC 20237, Telephone: (202) 619-1523.

SUPPLEMENTARY INFORMATION: In accordance with sections 4314(c) (1) through (5) of the Civil Service Reform Act of 1978 (Pub. L. 95454), the following is a list of members of the 2001 Performance Review Board for the Broadcasting Board of Governors.

Chairperson: Director for International Broadcasting Bureau, Brian Conniff (Acting). Panel 1—International Broadcasting Bureau SES Members.

Chairperson: Board Member, Broadcasting Board of Governors, Robert M. Ledbetter. Panel 2—Broadcasting Board of Governors SES Members.

Career SES Members

Ms. Janice Brambilla, Senior Advisor, Director General of the Foreign Service and Director of Human Resources, Department of State.

Mr. John Dunkin Jr., Special Coordinator (Designate) Office of the Under Secretary for Economic and Agricultural Affairs Department, Department of State.

Dated: November 6, 2001.
John S. Welch,
Director, Office of Personnel, International Broadcasting Bureau.

[FR Doc. 01-28581 Filed 11-14-01; 8:45 am]

BILLING CODE 8610-01-P